DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection request a three-year extension for Exchange/Sale Report, Excess Personal Property Furnished to Non-Federal Recipients, Agency Report of Motor Vehicle Data, Annual Motor Vehicle Fleet Report, and OMB Control Number 1910-1000. The proposed collection covers information necessary to prepare and submit the annual property reports required by 41 CFR part 102 and the Office of Management and Budget.

DATES: Comments regarding this proposed information collection must be received on or before July 25, 2016. If you anticipate that you will be submitting comments, but find it difficult to do so within the period of time allowed by this notice, please advise the OMB Desk Officer of your intention to make a submission as soon as possible. The Desk Officer may be telephoned at 202-395-4650.

ADDRESSES: Written comments may be sent to DOE Desk Officer, Office of Information and Regulatory Affairs, Office of Management and Budget, New Executive Office Building, Room 10102, 735 17th Street NW., Washington, DC 20503.

And to: Scott Whiteford, Deputy Director Office of Asset Management, MA-50/L'Enfant Plaza Building, Washington, DC 20585-1615, scott.whiteford@hq.doe.gov.

FOR FURTHER INFORMATION CONTACT: Scott Whiteford, at the above address, or by telephone at (202) 287-1563, or by fax (202) 287-1656.

Information for the Excess Personal Property Furnished to Non-Federal Recipients and the Exchange/Sale Report is collected using GSA's Personal Property Reporting Tool and can be found at the following link: https://gsa.inl.gov/property/.

Information for the Federal Fleet Report is collected using the Federal Automotive Statistical Tool and can be found at the following link: https://fastweb.inel.gov/.

SUPPLEMENTARY INFORMATION: This information collection request contains: (1) OMB No. 1910-1000; (2) Information Collection Request Title: Exchange/Sale Report, Excess Personal Property Furnished to Non-Federal Recipients, Federal Automotive Statistical Tool Report; (3) Type of Review: Renewal; (4) Purpose: The information being collected is data required in order to submit annual personal property reports as required by 41 CFR part 102 and the Office of Management and Budget. Respondents to this information collection request will be the Department of Energy's Management and Operating Contractor and other major site contractors; (5) Annual Estimated Number of Total Respondents: 76 respondents for each of the three reports; (6) Annual Estimated Number of Total Responses: 228 (76 respondents × 3 reports) ; (7) Total annual estimated number of burden hours is 1,672. A breakout of burden hours for each report is listed below:

○ Exchange/Sale 2 hours with 76 respondents,

○ Non-Federal Recipient Report are estimated at 2 hours for 76 estimated,

○ Federal Automotive Statistical Tool at 18 hours for each of the 76 estimated respondents, for a total of 1,368 burden hours.

(8) Annual Estimated Reporting and Recordkeeping Cost Burden is $133,760.

Authority: (A) 41 CFR 102-39.85, (B) 41 CFR 102-36.295 and 102-36.300, (C) OMB Circular A-11 section 25.5, (D) 41 CFR 102-34.335.

Issued in Washington, DC, on June 17, 2016.
Scott Whiteford,
Deputy Director Office of Asset Management.

[FR Doc. 2016-14864 Filed 6-22-16; 8:45 am]

BILLING CODE 6450-01-P